DEPARTMENT OF COMMERCE

National Oceanic and Atmospheric Administration

RIN 0648-XB042

Marine Mammals; File No. 16325

AGENCY: National Marine Fisheries Service (NMFS), National Oceanic and Atmospheric Administration (NOAA), Commerce.

ACTION: Notice; issuance of permit.

SUMMARY: Notice is hereby given that a permit has been issued to Jooke Robbins, Ph.D., Center for Coastal Studies, 5 Holway Avenue, Provincetown, MA 02657 to conduct research on marine mammals.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

FOR FURTHER INFORMATION CONTACT: Joselyd Garcia-Reyes or Carrie Hubard, (301) 427-8401.

SUPPLEMENTARY INFORMATION: On February 29, 2012, notice was published in the Federal Register (77 FR 12244) that a request for a permit to conduct research on humpback whales (Megaptera novaeangliae), fin whales (Balaenoptera physalus), blue whales (B. musculus), sei whales (B. borealis), minke whales (B. acutorostrata), sperm whales (Physeter macrocephalus), and killer whales (Orcinus orca) had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes harassment of humpback, fin, blue, sei, minke, sperm and killer whales by close vessel approaches; photo-identification and behavioral observations; photogrammetry; collection of exhaled air, feces and sloughed skin; and skin and blubber biopsy sampling import and export of parts. The research would continue a long-term study of North Atlantic humpback whales and improve understanding of the other six target species in the North Atlantic. Research would occur in the waters off Canada, Maine to Florida, and Puerto Rico. Incidental harassment of North Atlantic right whales (Eubalaena glacialis) and 14 other non-listed marine mammals is also authorized. The permit expires August 31, 2017.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on August 24, 2012.

As required by the ESA, issuance of this permit was based on a finding that such permit: (1) Was applied for in good faith; (2) will not operate to the disadvantage of such endangered species; and (3) is consistent with the purposes and policies set forth in section 2 of the ESA.

Dated: September 7, 2012.
P. Michael Payne,
Chief, Permits and Conservation Division, Office of Protected Resources, National Marine Fisheries Service.

[FR Doc. 2012-22607 Filed 9-12-12; 8:45 am]

BILLING CODE 3510-22-P